ENVIRONMENTAL PROTECTION AGENCY

[FRL-7856-2]

Underground Injection Control Program; Hazardous Waste Injection Restrictions; Petition for Exemption—Class I Hazardous Waste Injection; Onyx Environmental Services, L.L.C. (Onyx)

AGENCY: Environmental Protection Agency.

ACTION: Notice of final decision on exemption reissuance.

SUMMARY: Notice is hereby given that reissuance of an exemption to the land disposal restrictions under the 1984 Hazardous and Solid Waste Amendments to the Resource Conservation and Recovery Act has been granted to Onyx, for the Class I injection well located at Port Arthur, Texas. As required by 40 CFR part 148, the company has adequately demonstrated to the satisfaction of the Environmental Protection Agency by petition and supporting documentation that, to a reasonable degree of certainty, there will be no migration of hazardous constituents from the injection zone for as long as the waste remains hazardous. This final decision allows the continued underground injection by Onyx, of the specific restricted hazardous waste identified in the exemption reissuance, into the Class I hazardous waste injection well at the Port Arthur, Texas facility specifically identified in the reissued exemption until November 30, 2018, as long as the basis for granting an approval of this exemption remains valid, under provisions of 40 CFR 148.24. If Onyx wishes to continue underground injection of restricted hazardous waste beyond November 30, 2018, a reissuance request must be submitted. As required by 40 CFR 148.22(b) and in accordance with the procedures in 40 CFR 124.10, a public notice was issued October 25, 2004. The public comment period closed on December 10, 2004. EPA received no comments. This decision constitutes final Agency action and there is no Administrative appeal.

DATES: This action is effective as of December 17, 2004.

ADDRESSES: Copies of the petition for exemption reissuance and all pertinent information relating thereto are on file at the following location: Environmental Protection Agency, Region 6, Water Quality Protection Division, Source Water Protection Branch (6WQ-S), 1445 Ross Avenue, Dallas, Texas 75202-2733.

FOR FURTHER INFORMATION CONTACT: Philip Dellinger Chief, Ground Water/UIC Section, EPA—Region 6, telephone (214) 665-7165.

Dated: December 21, 2004.
Sharon Fancy Parrish,
Acting Director, Water Quality Protection Division, EPA Region 6.

[FR Doc. 04-28496 Filed 12-28-04; 8:45 am]

BILLING CODE 6560-50-P